ENVIRONMENTAL PROTECTION AGENCY

[EPA-HQ-OPP-2022-0163; FRL-9408-01-OCSPP]

Pesticide Product Registration; Receipt of Applications for New Uses—January 2022

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before April 4, 2022.

ADDRESSES: Submit your comments, identified by the docket identification (ID) number and the File Symbol of the EPA registration Number of interest as shown in the body of this document, through the Federal eRulemaking Portal at http://www.regulations.gov. Follow the online instructions for submitting comments. Do not submit electronically any information you consider to be Confidential Business Information (CBI) or other information whose disclosure is restricted by statute. Additional instructions on commenting or visiting the docket, along with more information about dockets generally, is available at https://www.epa.gov/dockets/about-epa-dockets.

Due to the public health concerns related to COVID-19, the EPA Docket Center (EPA/DC) and Reading Room is open to visitors by appointment only. For the latest status information on EPA/DC services and access, visit https://www.epa.gov/dockets.

FOR FURTHER INFORMATION CONTACT: Charles Smith, Biopesticides and Pollution Prevention Division (BPPD) (7511P), main telephone number: (703) 305-7090, email address: BPPDFRNotices@epa.gov; or Marietta Echeverria, Registration Division (RD) (7505P), main telephone number: (703) 305-7090, email address: RDFRNotices@epa.gov. The mailing address for each contact person: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. File Symbol: 264-776 and 264-826. Docket ID number: EPA-HQ-OPP-2021-0448. Applicant: Bayer CropScience LP, Bayer CropScience LP, 800 N Lindbergh Boulevard, St. Louis, MO 63169. Active ingredient: Trifloxystrobin. Product type: Fungicide. Proposed use: Dry bulb onion, green onion, snap bean and crop group subgroup conversions and expansions. Contact: RD.

2. EPA Registration Number: 352-841. Docket ID number: EPA-HQ-OPP-2022-0130. Applicant: E.I. du Pont de Nemours and Company, Chestnut Plaza Run, 974 Centre Road, Wilmington, DE 19805. Active ingredient: Chlorantraniliprole. Product type: Insecticide. Proposed use: Seed treatment on sweet corn, sorghum, dried rice and dried peas. Contact: RD.

3. EPA Registration Number: 59639-198. Docket ID number: EPA-HQ-OPP-2022-0101. Applicant: Valent U.S.A. LLC, 4600 Norris Canyon Road, P.O. Box 5075, San Ramon, CA 94583-0975. Active ingredient: Mandestrobin (2RS)-2-{2-[(2,5-dimethylphenoxy)methyl] phenyl}-2-methoxy-N-methylacetamide. Product type: Fungicide. Proposed use: Vegetable, tuberous and corm, except potato, subgroup 1D. Contact: RD.

4. EPA Registration Number: 59639-201. Docket ID number: EPA-HQ-OPP-2022-0101. Applicant: Valent U.S.A. LLC, 4600 Norris Canyon Road, P.O. Box 5075, San Ramon, CA 94583-0975. Active ingredient: Mandestrobin (2RS)-2-{2-[(2,5-dimethylphenoxy)methyl] phenyl}-2-methoxy-N-methylacetamide. Product type: Fungicide. Proposed use: Vegetable, tuberous and corm, except potato, subgroup 1D. Contact: RD.

5. EPA File Symbol: 73049-LEA. Docket ID number: EPA-HQ-OPP-2022-0104. Applicant: Valent Biosciences LLC, 1910 Innovation Way, Suite 100, Libertyville, IL 60048. Active ingredient: Fenpropathrin at 4.0%; abamectin at 1.5%; octanoic acid at 0.33%; nonanoic acid at 0.33%; decanoic acid at 0.33%). Product type: Insecticide. Proposed Use: Wide-area mosquito adulticide. Contact: RD.

6. EPA Registration Numbers: 73314-6 and 73314-19. Docket ID number: EPA-HQ-OPP-2022-0100. Applicant: Novozymes BioAg, Inc., 3101 Custer Avenue, Milwaukee, WI 53209. Active ingredient: Lipo-chitooligosaccharides (LCOs) SP104. Product type: Biochemical Plant Growth Regulator (PGR). Proposed use: New foliar and in-furrow applications for terrestrial, greenhouse, and nursery use. Contact: BPPD.

7. EPA File Symbol: 90098-R. Docket ID number: EPA-HQ-OPP-2021-0965. Applicant: Central Garden & Pet, P.O. Box 1019, Salem, VA 24153-1019. Active ingredient: Transfluthrin. Product type: Insecticide. Proposed Use: Outdoors and semi enclosed areas. Contact: RD.

8. EPA Registration Number: 91473-1. Docket ID number: EPA-HQ-OPP-2022-0127. Applicant: Seipasa, S.A., C/Almudevar, No. 2, Tardienta (Huesca), 22240, Spain, (c/o Walter G. Talarek, PC, 5153 Allison Marshall Drive, Warrenton, VA 20187). Active ingredient: Bacillus subtilis strain IAB/BS03. Product type: Fungicide. Proposed use: Interiorscape applications. Contact: BPPD.

9. File Symbol: 95058-R. Docket ID number: EPA-HQ-OPP-2021-0966. Applicant: Agroindustrial Kimitec S.L., Santa Marta, 13 Almeria, 04740, Spain (c/o Compliance Services International, 7501 Bridgeport Way West, Lakewood, WA 98499). Active ingredient: Eucalyptus Oil. Product type: Insecticide/acaricide. Proposed use: For use on agricultural and ornamental food and non-food crops. Contact: BPPD.

(Authority: 7 U.S.C. 136 et seq.)

Dated: February 8, 2022.
Delores Barber,
Director, Information Technology and Resources Management Division, Office of Program Support.

[FR Doc. 2022-04493 Filed 3-2-22; 8:45 am]

BILLING CODE 6560-50-P